DEPARTMENT OF TRANSPORTATION

Federal Aviation Administration

14 CFR Part 39

[Docket No. FAA-2021-0317; Project Identifier MCAI-2021-00175-R; Amendment 39-21520; AD 2021-09-07]

RIN 2120-AA64

Airworthiness Directives; Airbus Helicopters Deutschland GmbH Helicopters

AGENCY: Federal Aviation Administration (FAA), DOT.

ACTION: Final rule; request for comments.

SUMMARY: The FAA is superseding Airworthiness Directive (AD) 2019-17-02, which applied to certain Airbus Helicopters Deutschland GmbH (Airbus Helicopters) Model EC135P1, EC135P2, EC135P2+, EC135P3, EC135T1, EC135T2, EC135T2+, and EC135T3 helicopters. AD 2019-17-02 required inspecting certain part-numbered actuators for corrosion, removing them as necessary, and reporting certain information. This new AD continues to require inspecting certain part-numbered actuators, removing them as necessary, and reporting; and extends the compliance time for the initial inspection, expands the applicability, and includes new requirements for repetitive replacement of affected actuators; as specified in a European Union Aviation Safety Agency (EASA) AD, which is incorporated by reference. This AD was prompted by a hard landing of a helicopter and the discovery of a ruptured and displaced tie bar inside the piston of the longitudinal single-axis actuator of the main rotor actuator (MRA). The FAA is issuing this AD to address the unsafe condition on these products.

DATES: This AD becomes effective May 10, 2021.

The Director of the Federal Register approved the incorporation by reference of a certain publication listed in this AD as of May 10, 2021.

The FAA must receive comments on this AD by June 7, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0317.

Examining the AD Docket

You may examine the AD docket on the internet at https://www.regulations.gov by searching for and locating Docket No. FAA-2021-0317; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Hal Jensen, Aerospace Engineer, Operational Safety Branch, Compliance & Airworthiness Division, FAA, 950 L'Enfant Plaza N SW, Washington, DC 20024; telephone 202-267-9167; email hal.jensen@faa.gov.

SUPPLEMENTARY INFORMATION:

Discussion

The FAA issued AD 2019-17-02, Amendment 39-19722 (84 FR 47410, September 10, 2019) (AD 2019-17-02), which applied to Airbus Helicopters Deutschland GmbH Model EC135P1, EC135P2, EC135P2+, EC135P3, EC135T1, EC135T2, EC135T2+, and EC135T3 helicopters with certain longitudinal, collective, and lateral single-axis actuators installed having accumulated 6 or more years since manufacturing date or last overhaul, whichever occurred later. AD 2019-17-02 required visually inspecting for corrosion on all external surfaces of the longitudinal, collective, and lateral single-axis actuators, and based on the inspection outcome, removing the single-axis actuators from service at different compliance times. AD 2019-17-02 also required reporting certain information, along with photos of any corrosion, to Airbus Helicopters. The FAA issued AD 2019-17-02 to address corrosion in certain MRA components, which could result in failure of the component, failure of the MRA, and loss of control of the helicopter.

Actions Since AD 2019-17-02 Was Issued

Since the FAA issued AD 2019-17-02, the agency has determined the unsafe condition affects all longitudinal, collective, and lateral single-axis actuators that have accumulated 4 or more years since manufacturing date or last overhaul. Also, Airbus Helicopters has developed repetitive replacement and repetitive inspection procedures for the tie bar located in the affected single-axis actuators and addresses affected actuators with a manufacturing date or last overhaul of more than 4 years and less than 6 years, in addition to the affected actuators with a manufacturing date or last overhaul of more than 6 years.

The EASA, which is the Technical Agent for the Member States of the European Union, has issued EASA AD 2020-0105, dated May 11, 2020 (EASA AD 2020-0105) (also referred to as the Mandatory Continuing Airworthiness Information, or the MCAI), to correct an unsafe condition for all Airbus Helicopters Deutschland GmbH Model EC135 P1, EC135 P2, EC135 P2+, EC135 P3, EC135 T1, EC135 T2, EC135 T2+, EC135 T3, EC635 P2+, EC635 P3, EC635 T1, EC635 T2+ and EC635 T3 helicopters, all variants, all serial numbers. Model EC635 P2+, EC635 P3, EC635 T1, EC635 T2+, and EC635 T3 helicopters are not certificated by the FAA and are not included on the U.S. type certificate data sheet except where the U.S. type certificate data sheet explains that the Model EC635T2+ helicopter having serial number 0858 was converted from Model EC635T2+ to Model EC135T2+; this proposed AD therefore does not include Model EC635 P2+, EC635 P3, EC635 T1, EC635 T2+, and EC635 T3 helicopters in the applicability.

This AD was prompted by a hard landing of an Airbus Helicopters Model EC135 helicopter and the discovery of a ruptured and displaced tie bar inside the piston of the longitudinal single-axis actuator of the MRA. The FAA is issuing this AD to address a ruptured and displaced tie bar inside the piston of the longitudinal single-axis actuator of the MRA, which could result in reduced control of the helicopter and could result in a forced landing with consequent damage to the helicopter and injury to occupants. See the MCAI for additional background information.

Explanation of Retained Requirements

Although this AD does not explicitly restate the requirements of AD 2019-17-02, this AD retains certain requirements of AD 2019-17-02. Those requirements are referenced in EASA AD 2020-0105, which, in turn, is referenced in paragraph (g) of this AD.

Related IBR Material Under 1 CFR Part 51

EASA AD 2020-0105 describes procedures for an initial inspection of the affected single-axis actuators for corrosion, reporting inspection findings, and replacing affected single-axis actuators that have corrosion. EASA AD 2020-0105 also describes procedures for an option for repetitive replacement or repetitive inspection for corrosion (and repair if necessary) of the tie bar located in an affected single-axis actuator. This material is reasonably available because the interested parties have access to it through their normal course of business or by the means identified in the ADDRESSES section.

FAA's Determination

These products have been approved by the aviation authority of another country, and are approved for operation in the United States. Pursuant to the FAA's bilateral agreement with the State of Design Authority, the FAA has been notified of the unsafe condition described in the MCAI referenced above. The FAA is issuing this AD after evaluating all pertinent information and determining that the unsafe condition exists and is likely to exist or develop on other products of these same type designs.

Requirements of This AD

This AD requires accomplishing the actions specified in EASA AD 2020-0105, described previously, as incorporated by reference, except for any differences identified as exceptions in the regulatory text of this AD and except as discussed under “Differences Between this AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0105 will be incorporated by reference in the FAA final rule. This AD would, therefore, require compliance with EASA AD 2020-0105 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0105 that is required for compliance with EASA AD 2020-0105 is available on the internet at https://www.regulations.gov by searching for and locating Docket No. FAA-2021-0317.

Differences Between This AD and the MCAI

Where paragraph (4) of EASA AD 2020-0105 provides an option to do repetitive inspections of an affected part, this AD would provide an option to do repetitive repairs in lieu of the repetitive inspections and would require that the repetitive repairs be done using a method approved by the Manager, International Validation Branch, FAA.

FAA's Justification for Immediate Adoption and Determination of the Effective Date

Section 553(b)(3)(B) of the Administrative Procedure Act (APA) (5 U.S.C. 551 et seq.) authorizes agencies to dispense with notice and comment procedures for rules when the agency, for “good cause” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because a ruptured and displaced tie bar inside the piston of a longitudinal, collective, or lateral single-axis actuator of the MRA could result in reduced control of the helicopter, which could result in a forced landing with consequent damage to the helicopter and injury to occupants. In addition, the compliance time for the initial inspection of each affected part is within 14 days after the effective date of this AD, which is shorter than the time necessary for the public to comment and for publication of the final rule. Therefore, notice and opportunity for prior public comment are impracticable and contrary to public interest pursuant to 5 U.S.C. 553(b)(3)(B). In addition, the FAA finds that good cause exists pursuant to 5 U.S.C. 553(d) for making this amendment effective in less than 30 days, for the same reasons the FAA found good cause to forgo notice and comment.

Comments Invited

The FAA invites you to send any written relevant data, views, or arguments about this AD. Send your comments to an address listed under ADDRESSES. Include “Docket No. FAA-2021-0317; Project Identifier MCAI-2021-00175-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, Compliance & Airworthiness Division, FAA, 950 L'Enfant Plaza N SW, Washington, DC 20024; telephone 202-267-9167; email hal.jensen@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 337 helicopters of U.S. registry. The FAA estimates the following costs to comply with this AD:

Estimated Costs for Required Actions *
Labor cost | Parts cost | Cost per product | Cost on U.S. operators
2 work-hours × $85 per hour = $170, per inspection cycle | $0 | $170, per inspection cycle | $57,290, per inspection cycle.
* Table does not include estimated costs for reporting.

The FAA estimates that it takes about 1 work-hour per product to comply with the reporting requirement in this AD. The average labor rate is $85 per hour. Based on these figures, the FAA estimates the cost of reporting the inspection results on U.S. operators to be $28,645, or $85 per product.

The FAA estimates the following costs to do any necessary on-condition actions that would be required based on the results of any required actions. The FAA has no way of determining the number of helicopters that might need these on-condition actions:

Estimated Costs of On-Condition Actions
Labor cost | Parts cost | Cost per product
6 work-hours × $85 per hour = $510 | Up to $346,802 | Up to $347,312.

According to the manufacturer, some or all of the costs of this AD may be covered under warranty, thereby reducing the cost impact on affected individuals. The FAA does not control warranty coverage for affected individuals. As a result, the FAA has included all known costs in the cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to Information Collection Clearance Officer, Federal Aviation Administration, 10101 Hillwood Pkwy., Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD would not have federalism implications under Executive Order 13132. This AD would not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-17-02, Amendment 39-19722 (84 FR 47410, September 10, 2019); and

b. Adding the following new AD:

2021-09-07 Airbus Helicopters Deutschland GmbH: Amendment 39-21520; Docket No. FAA-2021-0317; Project Identifier MCAI-2021-00175-T.

(a) Effective Date

This airworthiness directive (AD) becomes effective May 10, 2021.

(b) Affected ADs

This AD replaces AD 2019-17-02, Amendment 39-19722 (84 FR 47410, September 10, 2019) (AD 2019-17-02).

(c) Applicability

This AD applies to Airbus Helicopters Deutschland GmbH Model EC135P1, EC135P2, EC135P2+, EC135P3, EC135T1, EC135T2, EC135T2+, and EC135T3 helicopters, certificated in any category, with any of the part numbers specified in paragraphs (c)(1) through (3) of this AD installed.

(1) Longitudinal single-axis actuator part number (P/N) L673M20A1008 or P/N L673M30A2111.

(2) Collective single‐axis actuator P/N L673M20A1012, P/N L673M30A1211, or P/N E673M30A1201.

(3) Lateral single‐axis actuator P/N L673M20A1011 or P/N L673M30A2311.

(d) Subject

Joint Aircraft System Component (JASC) Code 67000, Rotorcraft Flight Control.

(e) Reason

This AD was prompted by a hard landing of an Airbus Helicopters Deutschland GmbH Model EC135 helicopter and discovery of a ruptured and displaced tie bar inside the piston of the longitudinal single-axis actuator of the main rotor actuator (MRA). The FAA is issuing this AD to address a ruptured and displaced tie bar inside the piston of a longitudinal, collective, or lateral single-axis actuator of the MRA, which could result in reduced control of the helicopter and could result in a forced landing with consequent damage to the helicopter and injury to occupants.

(f) Compliance

Comply with this AD within the compliance times specified, unless already done.

(g) Requirements

Except as specified in paragraph (h) of this AD: Comply with all required actions and compliance times specified in, and in accordance with, European Union Aviation Safety Agency (EASA) AD 2020-0105, dated May 11, 2020 (EASA AD 2020-0105).

(h) Exceptions to EASA AD 2020-0105

(1) Where EASA AD 2020-0105 refers to its effective date, this AD requires using the effective date of this AD.

(2) Where paragraph (4) of EASA AD 2020-0105 refers to Table 1 of that AD for applicable compliance times, for this AD, use Table 1 to paragraph (h)(2) of this AD.

(3) Where the “part calendar age (A)” and “part calendar age (B)” definitions of EASA AD 2020-0105 refer to March 29, 2019 “(ASB [alert service bulletin] reference date)” and to April 26, 2019 “(the effective date of EASA AD 2019-0087-E, dated April 24, 2019),” this AD requires using April 23, 2019.

(4) The “Remarks” section of EASA AD 2020-0105 does not apply to this AD.

(5) Where the service information referenced in EASA AD 2020-0105 specifies to replace a certain part, this AD requires removing that part from service or repairing using a method approved by the Manager, International Validation Branch, FAA. For a repair method to be approved by the Manager, International Validation Branch, as required by this paragraph, the Manager's approval letter must specifically refer to this AD.

(6) Paragraph (2) of EASA AD 2020-0105 specifies to report inspection results to Airbus Helicopters within a certain compliance time. For this AD, report all inspection results at the applicable time specified in paragraph (6)(i) or (ii) of this AD.

(i) If the inspection was done on or after the effective date of this AD: Submit the report within 7 days after the inspection.

(ii) If the inspection was done before the effective date of this AD: Submit the report within 7 days after the effective date of this AD.

(7) Where paragraph (4) of EASA AD 2020-0105 provides an option to do repetitive replacements or repetitive inspections of an affected part, this AD does not allow the option to do repetitive inspections. However, this AD does allow repetitive repairs as an option to the repetitive replacements specified in paragraph (4) of EASA AD 2020-0105. The repetitive repairs must be done using a method approved by the Manager, International Validation Branch, FAA. For a repair method to be approved by the Manager, International Validation Branch, as required by this paragraph, the Manager's approval letter must specifically refer to this AD.

(8) Where Note 1 of paragraph (4) of EASA AD 2020-0105 permits a non-cumulative tolerance of 6 months to be applied to the interval for the repetitive replacement or inspection of the affected part, this AD requires the repetitive replacement or repair of the affected part at intervals not exceeding 5 years 6 months.

(i) Special Flight Permit

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, Compliance & Airworthiness Division, FAA, 950 L'Enfant Plaza N SW, Washington, DC 20024; telephone 202-267-9167; email hal.jensen@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0105, dated May 11, 2020.

(ii) [Reserved]

(3) For EASA AD 2020-0105, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0317.

(5) You may view this material that is incorporated by reference at the National Archives and Records Administration (NARA). For information on the availability of this material at NARA, email fedreg.legal@nara.gov, or go to https://www.archives.gov/federal-register/cfr/ibr-locations.html.

Issued on April 15, 2021.
Lance T. Gant,
Director, Compliance & Airworthiness Division, Aircraft Certification Service.

[FR Doc. 2021-08574 Filed 4-21-21; 11:15 am]

BILLING CODE 4910-13-P